DEPARTMENT OF DEFENSE

Defense Intelligence Agency

[DOD-2006-OS-0117]

Privacy Act of 1974; Systems of Records

AGENCY: Defense Intelligence Agency, DoD.

ACTION: Notice to amend a system of records.

SUMMARY: The Defense Intelligence Agency is amending a system of records notice to its existing inventory of record systems subject to the Privacy Act of 1974 (5 U.S.C. 552a), as amended.

DATES: This proposed action will be effective without further notice on July 5, 2006 unless comments are received that would result in a contrary determination.

ADDRESSES: Freedom of Information Office, Defense Intelligence Agency (DAN-1A), 200 MacDill Blvd., Washington, DC 20340-5100.

FOR FURTHER INFORMATION CONTACT: Ms. Theresa Lowery at (202) 231-1193.

SUPPLEMENTARY INFORMATION: The Defense Intelligence Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: May 26, 2006
C.R. Choate,
Alternate OSD Federal Register Liaison Officer, Department of Defense.

LDIA 0450

System name:

Drug-Free Workplace Files (February 22, 1993, 58 FR 10613).

Changes:

* * * * *

System Location:

Delete “0001” and replace with: “5100”.

Categories of Individuals Covered by the System:

Delete entry and replace with: “Civilian employees of, and applicants for positions in, the Defense Intelligence Agency”.

Categories of Records in the System:

Delete entry and replace with: “Records relating to the selection, notification, and testing of employees and applicants, tests results information, and related reports to include disciplinary action due to failed tests, refusal of test, accident, reasonable suspicion, voluntary test.”

* * * * *

Purpose(s):

Delete second paragraph and replace with: “Records are used by the employee's of the Deputy Director for Human Capital who have the authority to recommend or make offers of employment; a supervisory or management official having authority to take or recommend adverse personnel actions against a subject employee.”

* * * * *

Storage:

Delete entry and replace with: “Paper records maintained in file folders. Automated records in a database, diskette, or other machine-readable media.”

Retrievability:

Delete entry and replace with: “Test results are retrieved by surname of applicant or employee Social Security Number. Other retrieval fields include date of testing and personal identification number.”

Safeguards:

Delete entry and replace with: “File folders are stored in cabinets that are locked when not being used. Electronic records are accessed on computer terminals in supervised areas. All personnel having access to this record system have been trained for proper handling of Privacy Act information. Electronic records are maintained on a classified and password protected system.”

Retention and Disposal:

Delete entry and replace with: “Files on applicants for positions are maintained for a period not to exceed twelve months. Employee files are retained for two years. In instances of a positive test finding resulting in the separation of an employee, retention is for a period of six years and three months after the case is closed. Destruction of paper records is accomplished by shredding or burning. Electronic records are erased and overwritten.”

System Manager(s) and Address:

Delete entry and replace with: “Deputy Director for Human Capital, ATTN: HCH, Defense Intelligence Agency, 200 MacDill Blvd., Washington DC 20340-5100”

Notification Procedure:

Delete entry and replace with: “Individuals seeking to determine whether information about themselves is contained in this system of records should address written inquiries to the Freedom of Information Act Office (DAN-1A/FOIA), Defense Intelligence Agency, Washington, DC 20340-5100.

Individuals should provide their full name, current address, telephone number and Social Security Number.”

Record Access Procedures:

Delete entry and replace with: “Individuals seeking access to information about themselves contained in this system should address written inquiries to the Freedom of Information Act Office (DAN-1A/FOIA), Defense Intelligence Agency, Washington, DC 20340-5100.

Individuals should provide their full name, current address, telephone number and Social Security Number.”

Contesting Record Procedures:

Delete entry and replace with: “DIA's rules for accessing records, for contesting contents and appealing initial agency determinations are published in DIA Regulation 12-12 ‘Defense Intelligence Agency Privacy Program’; 32 CFR part 319—Defense Intelligence Agency Privacy Program; or may be obtained from the system manager.”

* * * * *

LDIA 0450

System name:

Drug-Free workplace Files.

System location:

Defense Intelligence Agency, Washington, DC 20340-5100.

Categories of individuals covered by the system:

Civilian employees of, and applicants for positions in, the Defense Intelligence Agency.

Categories of records in the system:

Records relating to the selection, notification, and testing of employees and applicants, tests results information, and related reports to include disciplinary action due to failed tests, refusal of test, accident, reasonable suspicion, voluntary test.

Authority for maintenance of the system:

5 U.S.C. 7301 and 7361; Public Law 100-71; and E.O.s 12564, Drug-Free Federal Workplace and 9397.

Purpose(s):

The system is used to maintain Drug Testing Program Coordinator records relating to the implementation of the program, administration, selection, notification and testing of DIA employees and applicants for employment for use of illegal drugs.

Records are used by the employee's of the Deputy Director for Human Capital who have the authority to recommend or make offers of employment; a supervisory or management official having authority to take or recommend adverse personnel actions against a subject employee.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows: In order to comply with the provision of 5 U.S.C. 7301 the DIA “Blanket Routine Uses” do not apply to this system or records.

To a court of competent jurisdiction where required by the United States Government to defend against any challenge against any adverse personnel action.

policies and practices for storing, retrieving, accessing, retaining, and disposing of records in the system:

storage:

Paper records maintained in file folders. Automated records in a database, diskette, or other machine-readable media.

retrievability:

Test results are retrieved by surname of applicant or employee Social Security Number. Other retrieval fields include date of testing and personal identification number.

safeguards:

File folders are stored in cabinets that are locked when not being used. Electronic records are accessed on computer terminals in supervised areas. All personnel having access to this record system have been trained for proper handling of Privacy Act information. Electronic records are maintained on a classified and password protected system.

Retention and disposal:

Files on applicants for positions are maintained for a period not to exceed twelve months. Employee files are retained for two years. In instances of a positive test finding resulting in the separation of an employee, retention is for a period of six years and three months after the case is closed. Destruction of paper records is accomplished by shredding or burning. Electronic records are erased and overwritten.

system manager(s) and address:

Deputy Director for Human Capital, ATTN: HCH, Defense Intelligence Agency, 200 MacDill Blvd., Washington, DC 20340-5100.

notification procedure:

Individuals seeking to determine whether information about themselves is contained in this system of records should address written inquiries to the Freedom of Information Act Office (DAN-1A/FOIA), Defense Intelligence Agency, Washington, DC 20340-5100.

Individuals should provide their full name, current address, telephone number and Social Security Number.

Record access procedures:

Individuals seeking access to information about themselves contained in this system should address written inquiries to the Freedom of Information Act Office (DAN-IA/FOIA), Defense Intelligence Agency, Washington, DC 20340-5100.

Individuals should provide their full name, current address, telephone number and Social Security Number.

Contesting record procedures:

DIA's rules for accessing records, for contesting contents and appealing initial agency determinations are published in DIA Regulation 12-12: Defense Intelligence Agency Privacy Program''; 32 CFR part 319—Defense Intelligence Agency Privacy Program; or may be obtained from the system manager.

Record source categories:

The test subject, medical review officials, collection personnel and others on a case-by-case basis.

Exemptions claimed for the system:

None.

[FR Doc. 06-5092 Filed 6-2-06; 8:45 am]

BILLING CODE 5001-06-M